DEPARTMENT OF ENERGY

Federal Energy Regulatory Commission

[Docket No. AD04-9-000]

Billing Procedures for Annual Charges for the Costs of Other Federal Agencies for Administering Part I of the Federal Power Act; Notice of Technical Conference

June 18, 2004.

1. In an order issued on June 18, 2004, the Commission acted on matters remanded to it by the court in City of Tacoma, WA, et al. v. FERC, 331 F.3d 106 (D.C. Cir. 2003). The court concluded that the Commission is required to determine the reasonableness of costs incurred by other Federal agencies (OFAs) related to the participation of those agencies in the Commission's proceedings under Federal Power Act (FPA) Part I ¹ when those agencies seek to include such costs in the administrative annual charges licensees must pay to reimburse the United States for the cost of administering Part I.² The court also remanded to the Commission issues regarding the eligibility of specific types of OFA costs for reimbursement, and issues regarding the availability of refunds for certain charges.

¹ 16 U.S.C. 794-823b.

² The OFAs are the Bureau of Indian Affairs, the Bureau of Land Management, the Bureau of Reclamation, the National Park Service, and the U.S. Fish and Wildlife Service (all in the Department of the Interior); the Corps of Engineers (in the Department of the Army); the U.S. Forest Service (in the Department of Agriculture); and the National Oceanic and Atmospheric Administration (in the Department of Commerce).

2. The June 18 order determined which OFA costs are eligible to be included in administrative annual charges. It also established procedures for Commission review of future OFA cost submittals and those currently under appeal. Finally, it introduced a new form for such cost submittals and announced that a technical conference would be held for the purpose of finalizing the proposed form, so that it can be used in the Commission's consideration of OFA cost submittals on appeal and prospectively. The form was attached to the order and is posted on the Commission's Web site.³

³ http://www.ferc.gov/.

3. The Comission will hold a technical conference on the new form for submittal of OFA Part I-related costs. The purpose of the conference will be for OFAs and licensees to obtain any needed clarification regarding the format and content requirements of the form, and to make any recommendations for improvement of the form in that regard. The conference will not consider any issues pertaining to requests for rehearing of the June 18 Order.

4. The Conference will be held on July 1, 2004, in Hearing Room 6 at the Commission's headquarters at 888 First Street, NE., Washington, DC. The conference will begin at 9 a.m. (e.s.t). An agenda may be viewed on the Commission's website by June 25, 2004.

5. The technical conference will also be transcribed. Those interested in obtaining a copy of the transcript immediately for a fee should contact the Ace-Federal Reporters, Inc., at 202-347-3700, or 1-800-336-6646. Two weeks after the post-forum meeting, the transcript will be available for free on the Commission's e-library system. Anyone without access to the Commission's website or who has questions about the technical conference should contact Anton Porter at 202-502-8728, e-mail at anton.porter@ferc.gov.

Magalie R. Salas,
Secretary.

[FR Doc. E4-1417 Filed 6-25-04; 8:45 am]

BILLING CODE 6717-01-P